DEPARTMENT OF THE INTERIOR

National Park Service

Notice of Continuation of Visitor Services

AGENCY: National Park Service, Interior.

ACTION: Public notice.

SUMMARY: Pursuant to the terms of existing concession contracts, public notice is hereby given that the National Park Service intends to request a continuation of visitor services for a period not-to-exceed 1 year from the date of contract expiration.

DATES: Effective Date: October 1, 2006.

FOR FURTHER INFORMATION CONTACT: Jo. A. Pendry, Concession Program Manager, National Park Service, Washington, DC 20240, Telephone, 202/513-7156.

SUPPLEMENTARY INFORMATION: The contracts listed below have been extended to maximum allowable under 36 CFR 51.23. Under the provisions of current concession contracts and pending the completion of the public solicitation of a prospectus for a new concession contract, the National Park Service authorizes continuation of visitor services for a period not-to-exceed 1 year under the terms and conditions of the current contract as amended. The continuation of operations does not affect any rights with respect to selection for award of a new concession contract.

Concession

Contract number | Concessional name | Park
BIBE002-82 | Forever Resorts, LLC | Big Bend National Park.
BLRI007-82 | Forever Resorts, LLC | Blue Ridge Parkway.
ISRO002-82 | Forever Resorts, LLC | Isle Royale National Park.
JEFF002-95 | Jefferson National Parks Association | Jefferson National Expansion Memorial.
LAME004-89 | Lake Mead Ferry Service, Inc | Lake Mead National Recreation Area.
MACA002-82 | Forever Resorts, LLC | Mammoth Cave National Park.
OLYM003-82 | Forever Resorts, LLC | Olympic National Park.

Dated: November 30, 2006.
John Wessels,
Acting Assistant Director, Business Services.

[FR Doc. 06-9661 Filed 12-13-06; 8:45 am]

BILLING CODE 4313-53-M